DEPARTMENT OF ENERGY

Federal Energy Regulatory Commission

Combined Notice of Filings

Take notice that the Commission has received the following Natural Gas Pipeline Rate and Refund Report filings:

Filings Instituting Proceedings

Docket Numbers: RP13-133-000.

Applicants: Rendezvous Pipeline Company, LLC.

Description: NAESB Version 2.0 Filing to be effective 12/1/2012.

Filed Date: 10/4/12.

Accession Number: 20121004-5062.

Comments Due: 5 p.m. ET 10/16/12.

Docket Numbers: RP13-134-000.

Applicants: Rockies Express Pipeline LLC.

Description: Rockies Express Pipeline LLC submits request for Limited Waiver of three provisions of General Terms and Conditions.

Filed Date: 10/4/12.

Accession Number: 20121004-5087.

Comments Due: 5 p.m. ET 10/12/12.

Docket Numbers: RP13-135-000.

Applicants: Guardian Pipeline, L.L.C.

Description: Chevron Park and Loan 2012 to be effective 10/23/2012.

Filed Date: 10/4/12.

Accession Number: 20121004-5144.

Comments Due: 5 p.m. ET 10/16/12.

Docket Numbers: RP13-136-000.

Applicants: Questar Overthrust Pipeline Company.

Description: CO2 to be effective 3/1/2013.

Filed Date: 10/4/12.

Accession Number: 20121004-5169.

Comments Due: 5 p.m. ET 10/16/12.

Docket Numbers: RP13-137-000.

Applicants: Panther Interstate Pipeline Energy, LLC.

Description: Panther Housekeeping Filing to be effective 11/5/2012.

Filed Date: 10/5/12.

Accession Number: 20121005-5058.

Comments Due: 5 p.m. ET 10/17/12.

Docket Numbers: RP13-138-000.

Applicants: Algonquin Gas Transmission, LLC.

Description: Ramapo Receipt Point Changes Effective 11-01-2012 to be effective 11/1/2012.

Filed Date: 10/5/12.

Accession Number: 20121005-5062.

Comments Due: 5 p.m. ET 10/17/12.

Docket Numbers: RP13-139-000.

Applicants: Alliance Pipeline L.P.

Description: October 2012 Auction to be effective 10/5/2012.

Filed Date: 10/5/12.

Accession Number: 20121005-5174.

Comments Due: 5 p.m. ET 10/17/12.

Docket Numbers: RP13-140-000.

Applicants: Iroquois Gas Transmission System, L.P.

Description: 10/05/12 Negotiated Rates—Barclays (RTS) to be effective 11/1/2012.

Filed Date: 10/5/12.

Accession Number: 20121005-5176.

Comments Due: 5 p.m. ET 10/17/12.

Docket Numbers: RP13-141-000.

Applicants: Iroquois Gas Transmission System, L.P.

Description: 10/05/12 Negotiated Rates—BG Energy Merchants (RTS) to be effective 11/1/2012.

Filed Date: 10/5/12.

Accession Number: 20121005-5179.

Comments Due: 5 p.m. ET 10/17/12.

Docket Numbers: RP13-142-000.

Applicants: Iroquois Gas Transmission System, L.P.

Description: 10/05/12 Negotiated Rates—Macquarie Energy (RTS) to be effective 11/1/2012.

Filed Date: 10/5/12.

Accession Number: 20121005-5180.

Comments Due: 5 p.m. ET 10/17/12.

Docket Numbers: RP13-143-000.

Applicants: Iroquois Gas Transmission System, L.P.

Description: 10/05/12 Negotiated Rates—Spark Energy (RTS) to be effective 11/1/2012.

Filed Date: 10/5/12.

Accession Number: 20121005-5187.

Comments Due: 5 p.m. ET 10/17/12.

Docket Numbers: RP13-144-000.

Applicants: Cheniere Creole Trail Pipeline, L.P.

Description: Creole Trail Housecleaning Filing to be effective 10/5/2012.

Filed Date: 10/5/12.

Accession Number: 20121005-5195.

Comments Due: 5 p.m. ET 10/17/12.

Docket Numbers: RP13-145-000.

Applicants: Tennessee Gas Pipeline Company, L.L.C.

Description: Bring up-to-date Compliance Rate Case/Settlement Reservation Charge Credit to be effective 11/10/2011.

Filed Date: 10/5/12.

Accession Number: 20121005-5213.

Comments Due: 5 p.m. ET 10/17/12.

Docket Numbers: RP13-146-000.

Applicants: Philadelphia Energy Solutions Refining Sunoco Inc. (R&M).

Description: Joint Petition for Temporary Waiver of Capacity Release Regulations and Policies, and Request for Shortened Comment Period and Expedited Treatment of Philadelphia Energy Solutions Refining and Marketing LLC, et. al.

Filed Date: 10/9/12.

Accession Number: 20121009-5128.

Comments Due: 5 p.m. ET 10/16/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: October 9, 2012.
Nathaniel J. Davis, Sr.,
Deputy Secretary.

[FR Doc. 2012-25270 Filed 10-12-12; 8:45 am]

BILLING CODE 6717-01-P